DEPARTMENT OF COMMERCE

International Trade Administration

[A-428-834]

Notice of Amended Preliminary Determination of Sales at Less Than Fair Value: Certain Cold-Rolled Carbon Steel Flat Products from Germany

AGENCY: Import Administration, International Trade Administration, Department of Commerce.

ACTION: Notice of Amended Preliminary Determination of Sales at Less Than Fair Value.

EFFECTIVE DATE: May 29, 2002.

FOR FURTHER INFORMATION CONTACT: Anya Naschak, Charles Rast, or Abdelali Elouaradia at (202) 482-6375, (202) 482-1324 and (202) 482-1374, respectively; AD/CVD Enforcement, Office 8, Group III, Import Administration, International Trade Administration, U.S. Department of Commerce, 14th Street and Constitution Avenue, NW, Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations are to the provisions codified at 19 CFR 351 (2001).

Amendment of Preliminary Determination

The Department of Commerce (the Department) is amending the preliminary determination in the antidumping investigation of certain cold-rolled carbon steel flat products from Germany to reflect the correction of significant ministerial errors in the margin calculation. Correction of these errors results in a revised antidumping rate for the single respondent, as well as the all others rate.

Scope of Investigation

For purposes of this investigation, the products covered are certain cold-rolled (cold-reduced) flat-rolled carbon-quality steel products. For a full description of the scope of this investigation, as well as a complete discussion of all scope exclusion requests submitted in the context of the on-going cold-rolled steel investigations, please see the “Scope Appendix” attached to the Notice of Preliminary Determination of Sales at Less Than Fair Value: Certain Cold-Rolled Carbon Steel Flat Products from Argentina, 67 FR 31204 (May 9, 2002).

Background

On April 26, 2002, the Department issued its affirmative preliminary determination in this proceeding. See Notice of Preliminary Determination of Sales at Less than Fair Value and Postponement of Final Determination: Cold-Rolled Carbon Steel Flat Products from Germany, 67 FR 31212 (May 9, 2002) (Preliminary Determination). That preliminary determination covered the following manufacturer/exporter: Thyssen Krupp Stahl AG (TKS). On April 30, 2002, the Department disclosed its calculations used in the preliminary determination to counsel for TKS and counsel for petitioners.

On Monday, May 6, 2002, the Department received from the respondent and petitioners¹ allegations of ministerial errors in the preliminary determination, timely filed pursuant to 19 CFR 351.224(c)(2). The respondent alleged five ministerial errors: (1) the Department incorrectly administered the arms' length test on home market sales; (2) the Department incorrectly applied its intended facts available (FA) methodology for affiliated home market resellers; (3) the Department incorrectly excluded billing adjustments from calculation of home market revenue used for the purpose of determining constructed export price (CEP) profit; (4) the Department incorrectly applied a revised general and administrative expenses rate (GNA) for U.S. further manufacturing (which results in double counting of certain indirect selling expenses) and incorrectly included freight revenue in the denominator of the further manufacturing GNA rate calculation; and (5) the Department incorrectly performed the comparison of control number (CONNUM) specific average prices. See letter from the respondent alleging ministerial errors in the preliminary determination (May 6, 2002). In addition, the petitioners alleged that the Department incorrectly applied its intended FA methodology to an affiliated U.S. reseller. See letter from petitioners alleging ministerial errors in the preliminary determination (May 6, 2002).

¹ The petitioners in this investigation are Bethlehem Steel Corporation, LTV Steel Company, National Steel Corporation, Nucor Corporation, Steel Dynamics, Inc., WCI Steel, Inc., Weirton Steel Corporation, and United States Steel Corporation.

Significant Ministerial Error

A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g).

In this instance, the original preliminary determination resulted in a weighted-average margin of 14.52%. Implementation of the corrections of the ministerial errors results in a weighted-average dumping margin of 8.47%, thus meeting the requirements under 19 CFR 351.224(g)(2).

Amended Determination

The Department has reviewed its preliminary margin calculations and agrees that all but one of the respondent's and petitioners' identified errors constitute ministerial errors within the meaning of 19 CFR 351.224(f) as they involve inadvertent coding or calculation errors that generate results that are other than that which the Department intended. Specifically, the Department administered the arms' length test incorrectly on home market sales, incorrectly applied its intended FA methodology for affiliated home market resellers, incorrectly excluded billing adjustments from calculation of home market revenue used for the purpose of determining CEP profit, inadvertently used a variable in calculation of the CEP offset that was not weight averaged, and incorrectly applied its intended FA methodology to an affiliated U.S. reseller. For additional details, see the May 17, 2002, Sales Memorandum to Richard O. Weible from Anya Naschak and Charlie Rast regarding Ministerial Error Allegation.

With regard to respondent's allegations concerning the further manufacturing GNA ratio, the Department agrees in part that the alleged errors are ministerial in nature. The Department agrees that it inadvertently subtracted freight revenue from the denominator of that calculation, thereby overstating the GNA ratio used to calculate further manufacturing costs. We have corrected this ministerial error. However, we disagree that the Department double-counted the selling expenses used in the numerator of that calculation. The methodology used by the Department to calculate the further manufacturing GNA numerator did not double-count any expenses. Moreover, the Department intended to calculate the further manufacturing GNA numerator in the manner used in the preliminary determination. Therefore, respondent's ministerial error allegation on this point is more properly viewed as a comment on our methodology. Accordingly we have not corrected this alleged error in the amended preliminary determination. For additional details, see the May 17, 2002, Cost Memorandum to Neil Harper from Michael Harrison regarding Ministerial Error Allegations.

As a result of our analysis of petitioners' and respondent's allegations, we are amending our preliminary determination to revise the antidumping rates in accordance with 19 C.F.R. § 351.224(e). Suspension of liquidation will be revised in accordance with section 733(d) of the Act.

The following weighted-average dumping margins apply:

Manufacturer/exporter | Margin (percent)
Thyssen Krupp Stahl AG | 8.47
All Others | 8.47

The all others rate has been amended, and applies to all entries of the subject merchandise except for entries from exporters/producers that are identified individually above.

Suspension of Liquidation

In accordance with section 733(d)(2) of the Act, the Department will direct the Customs Service to continue to suspend liquidation of all entries of cold rolled steel from Germany that are entered, or withdrawn from warehouse, for consumption, on or after May 9, 2002, the date of publication of the original preliminary determination in the Federal Register. The Customs Service shall continue to require a cash deposit or the posting of a bond equal to the estimated amount by which the normal value exceeds the U.S. price as shown above. These instructions will remain in effect until further notice.

International Trade Commission Notification

In accordance with section 733(f) of the Act, we have notified the International Trade Commission of the amended preliminary determination.

This determination is issued and published pursuant to section 733(f) and 777(i)(1) of the Tariff Act.

Dated: May 21, 2002
Faryar Shirzad,
Assistant Secretary for Import Administration.

[FR Doc. 02-13389 Filed 5-28-02; 8:45 am]

BILLING CODE 3510-DS-S